DEPARTMENT OF TRANSPORTATION

Federal Aviation Administration

Notice of Opportunity for Public Comment on Surplus Property Release at Memphis International Airport, Memphis, Tennessee

AGENCY: Federal Aviation Administration (FAA), DOT.

ACTION: Notice.

SUMMARY: Under the provisions of Title 49, U.S.C. Section 47153(c), notice is being given that the FAA is considering a request from the Memphis-Shelby County Airport Authority to waive the requirement that a 2.72-acre parcel of surplus property, located at the Memphis International Airport, be used for aeronautical purposes.

DATES: Comments must be received on or before November 8, 2004.

ADDRESSES: Comments on this notice may be mailed or delivered in triplicate to the FAA at the following address: Memphis Airports District Office, 2862 Business Park Drive, Building G, Memphis, TN 38118-1555.

In addition, one copy of any comments submitted to the FAA must be mailed or delivered to Mr. Richard V. White, A.A.E., Director of Properties, Memphis-Shelby County Airport Authority at the following address: 2491 Winchester Rd.; Suite 113, Memphis, TN 38116-3856.

FOR FURTHER INFORMATION CONTACT: Tommy L. Dupree, Program Manager, Memphis Airports District Office, 2862 Business Park Drive, Building G, Memphis, TN 38118-1555, (901) 322-8185. The application may be reviewed in person at this same location.

SUPPLEMENTARY INFORMATION: The FAA is reviewing a request by Memphis-Shelby County Airport Authority to release 2.72 acres of surplus property at the Memphis International Airport. The property will be purchased by Mr. Woody Welch, Fleet Equipment, LLC, 2505 Farrisview, Memphis, TN, and used for the expansion of existing fleet equipment business. The irregular shaped parcel of 2.72 acres is located south of Interstate 240 and Farrisview Road and north of Nonconnah Creek. The 2.72 acre tract is isolated from any remaining tracts owned by the Memphis-Shelby County Airport Authority south of Nonconnah Creek. The 2.72 acre tract has no access from Farrisview Road. Approximately 1.05 acres is located in the floodplain, approximately one foot below floodplain elevation. The net proceeds from the non-aeronautical use or the sale of this property will be used for airport purposes.

Any person may inspect the request in person at the FAA office listed above under FOR FURTHER INFORMATION CONTACT. In addition, any person may, upon request, inspect the request, notice and other documents germane to the request in person at the Memphis-Shelby County Airport Authority.

Issued in Memphis, Tennessee, on September 29, 2004.
Peggy S. Kelly,
Acting Manager, Memphis Airports District Office, Southern Region.

[FR Doc. 04-22619 Filed 10-7-04; 8:45 am]

BILLING CODE 4910-13-M